DEPARTMENT OF DEFENSE

Office of the Secretary

[No. DOD-2006-OS-0063]

Submission for OMB Review; Comment Request

ACTION: Notice.

The Department of Defense has submitted to OMB for clearance, the following proposal for collection of information under the provisions of the Paperwork Reduction Act (44 U.S.C. Chapter 35).

DATES: Consideration will be given to all comments received by September 25, 2006.

Title, Associated Form and OMB Number: Application for Review of Discharge from the Armed Forces of the United States, DD Form 293, OMB Number 0704-0004.

Type of Request: Extension.

Number of Respondents: 5,607.

Responses Per Respondent: 1.

Annual Responses: 5,607.

Average Burden Per Response: 30 minutes.

Annual Burden Hours: 2,804.

Needs and Uses: Former members of the Armed Forces who received an administrative discharge have the right to appeal the characterization or reason for separation. Title 10 of the U.S. Code, Section 1553, and DoD Directive 1332.41 established a Board of Review consisting of five members to review appeals of former Service members. The DD Form 293, Application for Review of Discharge from the Armed Forces of the United States, provides the respondent a vehicle to present to the Board their reasons/justifications for a change in the characterization of their service or the reason for their separation, while also providing the Service the basic data needed to process the appeal.

Affected Public: Individuals or households.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: August 18, 2006.
Patricia L. Toppings,
Alternate OSD Federal Register Liaison Officer, Department of Defense.

[FR Doc. 06-7146 Filed 8-24-06; 8:45 am]

BILLING CODE 5001-06-M